COMMISSION OF FINE ARTS

Notice of Meeting

The next meeting of the Commission of Fine Arts is scheduled for 20 July 2000, at 9 a.m. at the Department of Interior's main auditorium, 18th & C Streets, NW., Washington, DC, 20240. The principal item for review will be the World War II Memorial.

Following this meeting, the Commission will reconvene at the Commission of Fine Arts, National Building Museum, Suite 312, Judiciary Square, 441 F Street, NW., Washington, DC 20001-2728, to discuss the remaining items on the agenda, including the design of the Woodrow Wilson Bridge.

Inquiries regarding the agenda and requests to submit written or oral statements should be addressed to Charles H. Atherton, Secretary, Commission of Fine Arts, at the above address or call 202-504-2200. Individuals requiring sign language interpretation for the hearing impaired should contact the Secretary at least 10 days before the meeting date.

Dated in Washington, DC, June 23, 2000.
Charles H. Atherton,
Secretary.

[FR Doc. 00-16752 Filed 6-30-00; 8:45 am]

BILLING CODE 6330-01-M